DEPARTMENT OF THE INTERIOR

National Park Service

[NPS-WASO-NAGPRA-NPS0037479; PPWOCRADN0-PCU00RP14.R50000]

Notice of Intent To Repatriate Cultural Items: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice. The cultural items were removed from San Luis Obispo and Santa Barbara, CA.

DATES: Repatriation of the cultural items in this notice may occur on or after March 29, 2024.

ADDRESSES: Megan Murphy, the University of California, Riverside, 900 University Avenue, Riverside, CA 92517-5900, telephone (951)-827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the summary or related records held by the University of California, Riverside.

Description

The six cultural items were removed from San Luis Obispo County, CA. In 1981, R.O. Gibson removed marine shells (Tivela sp, Mytilus sp, Tegla sp, and chiton) from archeological site CA-SLO-99, a site located on the sea coast approximately 0.6 miles east of the south end of Shell Beach. The site consisted of a shell midden with at least one bedrock mortar.

In 1981, R.O. Gibson removed shell fragments from a midden feature at archeological site CA-SLO-459, the Harrigan Site, which is a well-known site for the Chumash. The site was on private property near Shell Beach owned by a Mr. Harrigan in 1969, hence the name “Harrigan Site”. There are multiple reports of burials at the site being previously disturbed by sewer workers. In 1984, Madonna Construction under contract of Pismo City disturbed a Chumash burial and sent two skeletal elements to Dr. Phil Walker at UCSB. Dr. Walker wrote back noting that the coroner should have come to the site and reported to the Native American Heritage Commission (NAHC); the coroner reportedly refused to come. Dr. Walker urged the construction company to ask the NAHC to have the Attorney General corroborate. Walker went on to note that CA-SLO-459 is a well-known cemetery and that intentional disturbance is illegal. He cc'ed the Santa Ynez Elders Council and United Chumash Council on his response.

In 1978, R.O. Gibson removed abalone shell samples from archeological site CA-SLO-460, Fiscalini Ranch in Cambria Pine. The site was located on private property and was originally record in 1961 as a temporary camp for the gathering of seafood by Geneva Hamilton. Additional archeological surveys were conducted in the 1970s through the 1990s, which noted rock oven features, bedrock mortars, chipped stone objects, and ground stone objects.

In 1978, R.O. Gibson removed shell samples from archeological site CA-SLO-697, also known as Bob Gibson's Giant Footprint Site, in Cambria. The site reportedly consisted of a midden and oven feature with a low density of cultural deposits including net weights, pitted anvils, chert flakes, and shell fragment. Gibson hypothesized that the site actually consisted of several small sites that had blended together over time through the process of grading.

In 1981, Lawrence Spanne removed marine shells samples (Tivela stultorum) from archeological site CA-SLO-754 (trinomial later voided and changed to CA-SLO-433) in Oceano, California. The site, which was located on private property, was first recorded as a small campsite in 1954, though the property owner had noted that he had previously unintentionally disturbed a burial when plowing. In 1977 burials were disturbed during a property development project and the work was halted by local Chumash community members.

In 1981, five iron cannons washed up on Christi Beach and were thought to have been associated with Sir Francis Drake (1579). Snethcamp and Associates submitted pieces of rope found in the vicinity of the cannons to UCR for radiocarbon dating. The rope samples yielded a date of 120 ± 50 years B.P.

The six lots of objects of cultural patrimony are five lots of shells and one lot of rope fragments.

The four cultural items were removed from Santa Barbara County, CA. At an unknown date, shell samples were removed by an unknown individual from Santa Rosa Island and submitted to the University of California, Riverside Radiocarbon laboratory for testing. The samples were in jars labeled, “Abalone shells from Indian Culture—Santa Rosa Island, 3,000 years old” and “Shell Samples, Wavy Top, from Indian Culture—Santa Rosa Island, 3,000 years old”.

The skeletal remains from a fox were removed from Santa Rosa Island and were submitted by Shelley Steven to the University of California, Riverside, Radiocarbon Laboratory at an unknown date.

Burned faunal bone was removed by unknown individual from Santa Rosa Island at an unknown date and submitted to the University of California, Riverside, Radiocarbon Laboratory.

The four lots of objects of cultural patrimony are two lots of shells and two lots of faunal remains.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, oral tradition, and expert tribal opinion.

Determinations

Pursuant to NAGPRA and its implementing regulations, and after consultation with the appropriate Indian Tribes and Native Hawaiian organizations, the University of California, Riverside has determined that:

• The 10 cultural items described above have ongoing historical, traditional, or cultural importance central to the Native American group or culture itself, rather than property owned by an individual.

• There is a relationship of shared group identity that can be reasonably traced between the cultural items and the Santa Ynez Band of Chumash Mission Indians of the Santa Ynez Reservation, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 29, 2024. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3004, and the implementing regulations, 43 CFR 10.9.

Dated: February 20, 2024.
Melanie O'Brien,
Manager, National NAGPRA Program.

[FR Doc. 2024-04093 Filed 2-27-24; 8:45 am]

BILLING CODE 4312-52-P